ENVIRONMENTAL PROTECTION AGENCY

[ER-FRL-9011-4]

Environmental Impacts Statements; Notice of Availability

Responsible Agency: Office of Federal Activities, General Information (202) 564-7146 or http://www.epa.gov/compliance/nepa/.

Weekly receipt of Environmental Impact Statements.

Filed 09/16/2013 Through 09/20/2013.

Pursuant to 40 CFR 1506.9.

Notice

Section 309(a) of the Clean Air Act requires that EPA make public its comments on EISs issued by other Federal agencies. EPA's comment letters on EISs are available at: http://www.epa.gov/compliance/nepa/eisdata.html

EIS No. 20130278, Final EIS, EPA, LA, Designation of the Atchafalaya River Bar Channel Ocean Dredged Material Disposal Site, Review Period Ends: 10/28/2013, Contact: Jessica Franks 214-665-8335.

EIS No. 20130279, Draft EIS, BLM, ND, North Dakota Greater Sage-Grouse Draft Resource Management Plan Amendment, Comment Period Ends: 12/26/2013, Contact: Ruth Miller 406-896-5023.

EIS No. 20130280, Draft EIS, BLM, NV, 3 Bars Ecosystem and Landscape Restoration Project, Comment Period Ends: 11/12/2013, Contact: Chad Lewis 775-635-4000.

EIS No. 20130281, Final EIS, USFS, MT, Kootenai National Forest Land Management Plan Revision, Review Period Ends: 11/26/2013, Contact: Paul Bradford 406-293-6211.

EIS No. 20130282, Final EIS, USFS, WY, Clinker Mining Addition Project, Medicine Bow-Routt National Forests and Thunder Basin National Grassland, Review Period Ends: 11/04/2013, Contact: Misty Hays 307-358-4690. The above project was inadvertently omitted from the Federal Register Notice published on 09/20/2013.

EIS No. 20130283, Draft EIS, WAPA, USFS, 00, Reauthorization of Permits, Maintenance, and Vegetation Management on Western Area Power Administration Transmission Lines on Forest Service Lands, Comment Period Ends: 11/12/2013, Contact: Jim Hartman 720-962-7255. The U.S. Department of Energy's Western Area Power Administration and the U.S. Department of Agriculture's Forest Service are joint lead agencies for the above project.

EIS No. 20130284, Draft Supplement, GSA, CA, San Ysidro Land Port of Entry Improvements Project, Comment Period Ends: 11/12/2013, Contact: Osmahn Kadri 415-522-3617.

EIS No. 20130285, Final EIS, FHWA, FL, St. Johns River Crossing, Review Period Ends: 10/28/2013, Contact: Cathy Kendal 850-553-2225.

EIS No. 20130286, Final EIS, FHWA, FL, US 301 (SR 200) from CR 227 to CR 233, Review Period Ends: 10/29/2013, Contact: Joseph Sullivan 850-553-2248.

Amended Notices

EIS No. 20130148, Draft Supplement, USACE, FL, Jacksonville Harbor Navigation, Comment Period Ends: 10/24/2013, Contact: Paul Stodola 904-232-3271 Revision to FR Notice Published 08/09/2013; Extending Comment Period from 09/30/2013 to 10/24/2013.

EIS No. 20130252, Final EIS, USN, CA, Hawaii-Southern California Training and Testing, Review Period Ends: 10/28/2013, Contact: Cory Scott 808-472-1420 Revision to FR Notice Published 08/30/2013; Extending the Review Period from 09/30/2013 to 10/28/2013, due to pages inadvertently omitted from the original filing.

EIS No. 20130259, Final EIS, FTA, MD, Purple Line Draft Section 4(f) Evaluation, Review Period Ends: 10/21/2013, Contact: Daniel Koenig 202-219-3528 Revision to FR Notice Published 09/06/2013; Extending Review Period from 10/07/2013 to 10/21/2013.

Dated: September 24, 2013.
Cliff Rader,
Director, NEPA Compliance Division, Office of Federal Activities.

[FR Doc. 2013-23652 Filed 9-26-13; 8:45 am]

BILLING CODE 6560-50-P